ENVIRONMENTAL PROTECTION AGENCY

[FRL-10009-82-OA]

Request for Nominations of Experts To Augment the EPA's Science Advisory Board Radiation Advisory Committee for the Review of the EPA's Draft Multi-Agency Radiation Survey and Site Investigation Manual (MARSSIM) Revision 2

AGENCY: Environmental Protection Agency (EPA).

ACTION: Notice.

SUMMARY: The U.S. Environmental Protection Agency (EPA) Science Advisory Board (SAB) Staff Office invites public nominations of technical experts to augment the SAB's Radiation Advisory Committee (RAC) to conduct a review on Revision 2 to the Multi-Agency Radiation Survey and Site Investigation Manual.

DATES: Nominations should be submitted in time to arrive no later than June 4, 2020.

FOR FURTHER INFORMATION CONTACT: Any member of the public wishing further information regarding this Notice and Request for Nominations may contact Dr. Diana Wong, Designated Federal Officer (DFO), by telephone at (202) 564-2049 or at wong.diana-m@epa.gov. General information concerning the EPA SAB can be found at the EPA SAB website at http://www.epa.gov/sab.

SUPPLEMENTARY INFORMATION:

Background

The SAB (42 U.S.C. 4365) is a chartered Federal Advisory Committee that provides independent scientific and technical peer review, advice and recommendations to the EPA Administrator on the technical basis for EPA actions. As a Federal Advisory Committee, the SAB conducts business in accordance with the Federal Advisory Committee Act (FACA) (5 U.S.C. App. 2) and related regulations. The SAB Radiation Advisory Committee (RAC) is a subcommittee of the SAB that provides strategic advice through the chartered SAB on radiation protection, radiation science, and radiation science applications. The SAB and the RAC, augmented with additional experts, will comply with the provisions of FACA and all appropriate SAB Staff Office procedural policies.

MARSSIM provides information on planning, conducting, evaluating, and documenting environmental radiological surveys of surface soil and building surfaces for demonstrating compliance with regulations. MARSSIM, when finalized as Revision 2, will update this multi-agency consensus document.

MARSSIM was originally developed by the technical staffs of the four Federal agencies having authority for control of radioactive materials: DoD, DOE, EPA, and NRC (60 FR 12555; March 7, 1995). The four agencies issued Revision 1 to MARSSIM in August 2000, and additional edits to Revision 1 in June 2001. MARSSIM has not been updated since 2001; updates prior to 2001 primarily consisted of minor non-technical edits. Revision 2 updates the science, clarifies methods, and implements lessons learned from over 20 years of the document's use in industry.

Request for Nominations

The SAB Staff Office is seeking nominations of nationally and internationally recognized scientists and engineers with demonstrated expertise and experience to augment the RAC for the peer review of MARSSIM, Revision 2. The SAB Staff Office is looking for experts in one or more of the following disciplinary areas: Environmental monitoring and sampling, geology, hydrogeology, measurement protocols and statistics. Expertise should include a focus on radionuclides.

Additional Information

For questions concerning “MARSSIM, Rev. 2 (2020) please contact Kathryn Snead of the U.S. EPA, Office of Radiation and Indoor Air, by telephone at (202) 343-9228, or email at snead.kathryn@epa.gov.

Process and Deadline for Submitting Nominations

Any interested person or organization may nominate qualified individuals with relevant experience for possible service on the SAB MARSSIM Review Panel identified in this notice. Nominations should be submitted in electronic format (preferred) following the instructions for “Nominating Experts to Advisory Panels and Ad hoc Committees Being Formed,” provided on the SAB website (see the “Nomination of Experts” link under “Current Activities”) at http://www.epa.gov.sab.

To receive full consideration, EPA's SAB Staff Office requests contact information about the person making the nomination; contact information about the nominee; the disciplinary and specific areas of expertise of the nominee; the nominee's resume or curriculum vitae; sources of recent grant and/or contract support; and a biographical sketch of the nominee indicating current position, educational background, research activities, and recent service on other national advisory committees or national professional organizations.

Persons having questions about the nomination procedures, or who are unable to submit nominations through the SAB website, should contact Dr. Diana Wong as indicated above in this notice. Nominations should be submitted in time to arrive no later than June 4, 2020. EPA values and welcomes diversity. All qualified candidates are encouraged to apply regardless of sex, race, disability, or ethnicity.

The EPA SAB Staff Office will acknowledge receipt of nominations. The names and biosketches of qualified nominees identified by respondents to this Federal Register notice, and additional experts identified by the SAB Staff, will be posted in a List of Candidates on the SAB website at http://www.epa.gov/sab. Public comments on the List of Candidates will be accepted for 21 days. The public will be requested to provide relevant information or other documentation on nominees that the SAB Staff Office should consider in evaluating candidates.

For the EPA SAB Staff Office, a balanced review panel includes candidates who possess the necessary domains of knowledge, the relevant scientific perspectives (which, among other factors, can be influenced by work history and affiliation), and the collective breadth of experience. The SAB Staff Office will consider public comments on the List of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a loss of impartiality; and (e) skills working in panels and advisory committees; and, (f) for the panel as a whole, diversity of expertise and scientific points of view.

Candidates invited to serve will be asked to submit the “Confidential Financial Disclosure Form for Special Government Employees Serving on Federal Advisory Committees at the U.S. Environmental Protection Agency” (EPA Form 3110-48). This confidential form allows EPA to determine whether there is a statutory conflict between that person's public responsibilities as a Special Government Employee and private interests and activities, or the appearance of a loss of impartiality, as defined by Federal regulation.. The form may be viewed and downloaded from the following URL address http://yosemite.epa.gov/sab/sabproduct.nsf/Web/ethics?OpenDocument.

Dated: May 11, 2020.
V. Khanna Johnston,
Deputy Director, EPA Science Advisory Board Staff Office.

[FR Doc. 2020-10414 Filed 5-13-20; 8:45 am]

BILLING CODE 6560-50-P